DEPARTMENT OF TRANSPORTATION

Federal Aviation Administration

14 CFR Part 39

[Docket No. FAA-2011-0436; Directorate Identifier 2011-CE-009-AD]

RIN 2120-AA64

Airworthiness Directives; Hawker Beechcraft Corporation Models B300 and B300C (C-12W) Airplanes

AGENCY: Federal Aviation Administration (FAA), DOT.

ACTION: Notice of proposed rulemaking (NPRM).

SUMMARY: We propose to adopt a new airworthiness directive (AD) for the products listed above. This proposed AD would require inserting an update to the performance charts in the FAA-approved airplane flight manual and the pilot's operating handbook, part number (P/N) 130-590031-245. This proposed AD was prompted by an error found in the take-off speeds and field lengths published in the FAA-approved airplane flight manual. We are proposing this AD to correct the published data in the airplane flight manual and the pilot's operating handbook and ensure it corresponds with the published data in the pilot's checklist. This condition, if not corrected, could result in a pilot taking off from shorter runways than required by the airplane if the airplane loses an engine after takeoff decision speed (V1). This could result in the airplane running out of runway before take-off can be accomplished.

DATES: We must receive comments on this proposed AD by June 13, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this proposed AD, contact Hawker Beechcraft Corporation, 9709 East Central, Wichita, Kansas 67201; telephone: (316) 676-5034; fax: (316) 676-6614; Internet: https://www.hawkerbeechcraft.com/service_support/pubs/. You may review copies of the referenced service information at the FAA, Small Airplane Directorate, 901 Locust, Kansas City, MO 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Jason Brys, Flight Test Engineer, FAA, Wichita Aircraft Certification Office (ACO), 1801 S. Airport Road, Room 100, Wichita, Kansas 67209; telephone: (316) 946-4100; fax: (316) 946-4107.

SUPPLEMENTARY INFORMATION:

Comments Invited

We invite you to send any written relevant data, views, or arguments about this proposal. Send your comments to an address listed under the ADDRESSES section. Include “Docket No. FAA-2011-0436; Directorate Identifier 2011-CE-009-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We were notified by Hawker Beechcraft Corporation of an error found in the take-off speeds and field lengths published in the FAA-approved airplane flight manual. The required runway distances published in the current manual could be up to 320 feet shorter than what is necessary. Hawker Beechcraft Corporation determined data in the pilot's checklist (P/N 130-590031-273) was correct. This condition, if not corrected, could result in taking off from shorter runways than required by the airplane if the airplane loses an engine after takeoff decision speed (V1). This could result in the airplane running out of runway before take-off can be accomplished.

Relevant Service Information

We reviewed Hawker Beechcraft Corporation Temporary Change to the Pilot's Operating Handbook and FAA-Approved Airplane Flight Manual, P/N 130-590031-245TC5, dated February 2011. The temporary change corrects the published data in the FAA-approved airplane flight manual and the pilot's operating handbook.

FAA's Determination

We are proposing this AD because we evaluated all the relevant information and determined the unsafe condition described previously is likely to exist or develop in other products of the same type design.

Proposed AD Requirements

This proposed AD would require inserting an update to the performance charts in the FAA-approved airplane flight manual and the pilot's operating handbook.

Costs of Compliance

We estimate that this proposed AD affects 46 airplanes of U.S. registry.

We estimate the following costs to comply with this proposed AD:

Estimated Costs
Action | Labor cost | Parts cost | Cost per product | Cost on U.S. operators
AFM page replacement | .5 work-hour × $85 per hour = $42.50 | Not applicable | $42.50 | $1,955

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Hawker Beechcraft Corporation: Docket No. FAA-2011-0436; Directorate Identifier 2011-CE-009-AD.

Comments Due Date

(a) We must receive comments by June 13, 2011.

Affected ADs

(b) None.

Applicability

(c) This AD applies to Hawker Beechcraft Corporation Model B300 and B300C (C-12W) airplanes, all serial numbers, that:

(1) Are certificated in any category; and

(2) Are modified per Hawker Beechcraft Drawing 130M000030 or Kit Drawing 130-4014 that incorporate Aircraft Flight Manual P/N 130-590031-245.

Subject

(d) Joint Aircraft System Component (JASC)/Air Transport Association (ATA) of America Code 91, Charts.

Unsafe Condition

(e) This AD was prompted by an error that was discovered in the take-off speeds and field lengths published in the FAA-approved flight manual. We are proposing this AD to correct the published data in the airplane flight manual and the pilot's operating handbook and ensure it corresponds with the published data in the pilot's checklist. This condition, if not corrected, could result in taking off from shorter runways than required by the airplane if the airplane loses an engine after takeoff decision speed (V1). This could result in the airplane running out of runway before take-off can be accomplished.

Compliance

(f) Comply with this AD within the compliance times specified, unless already done.

Action

(g) Within 14 days after the effective date of this AD, insert Hawker Beechcraft Corporation Log of Temporary Changes, dated February 2011; and Hawker Beechcraft Corporation Temporary Change to the Pilot's Operating Handbook and FAA Approved Airplane Flight Manual, Part Number (P/N) 130-590031-245TC5, dated February 2011; into the airplanes Pilot's Operating Handbook and FAA Approved Flight Manual, P/N 130-590031-245. The actions required by this paragraph may be performed by the owner/operator (pilot) holding at least a private pilot certificate and must be entered into the aircraft records showing compliance with this AD in accordance with 14 CFR 43.9 (a)(1)-(4) and 14 CFR 91.417(a)(2)(v). The record must be maintained as required by 14 CFR 91.417, 121.380, or 135.439.

Alternative Methods of Compliance (AMOCs)

(h)(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

Related Information

(i) For more information about this AD, contact Jason Brys, Flight Test Engineer, FAA, Wichita ACO, 1801 S. Airport Road, Room 100, Wichita, Kansas 67209; telephone: (316) 946-4100; fax: (316) 946-4107.

(j) For service information identified in this AD, contact Hawker Beechcraft Corporation, 9709 East Central, Wichita, Kansas 67201; telephone: (316) 676-5034; fax: (316) 676-6614; Internet: https://www.hawkerbeechcraft.com/service_support/pubs/. You may review copies of the referenced service information at the FAA, Small Airplane Directorate, 901 Locust, Kansas City, MO 64106. For information on the availability of this material at the FAA, call (816) 329-4148.

Issued in Kansas City, Missouri, on April 22, 2011.
John Colomy,
Acting Manager, Small Airplane Directorate, Aircraft Certification Service.

[FR Doc. 2011-10387 Filed 4-28-11; 8:45 am]

BILLING CODE 4910-13-P